DEPARTMENT OF LABOR

Office of the Secretary

Submission for OMB Review; Comment Request

July 30, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or E-Mail King-Darrin@dol.gov.

Comments should be sent to Office of Information and Regulatory Affairs, Attn: Stuart Shapiro, OMB Desk Officer for MSHA, Office of Management and Budget, Room 10235, Washington, DC 20503 ((202) 395-7316), on or before September 5, 2001.

The OMB is particularly interested in comments which:

• Evaluate whether the proposed collection of information is necessary for the proper performance of the functions of the agency, including whether the information whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Mine Safety and Health Administration (MSHA).

Title: Safety Defects: Examination, Correction, and Records—30 CFR 56/57.13015; 13030; 14100; and 56/57.18002.

OMB Number: 1219-0089.

Affected Public: Business or other for-profit.

Number of Respondents: 13,074.

Requirement | Annual responses | Average response time (hours) | Frequency | Burden hours
Inspection of compressed-air receivers and other unfired pressure vessels—30 CFR 56/57.13015:
Inspection Time | 2,074 | .1333 | Annually | 276
Recordkeeping | 2,074 | .0333 | Annually | 69
Records of Inspection and Repairs—30 CFR 56/57.13030:
Inspection Time | 3,732 | .1333 | Annually | 497
Recordkeeping | 3,732 | .0333 | Annually | 124
Safety defects; examination, correction, and records—30 CFR 56/57.14100:
Inspection Time—Small mines | 4,868,208 | .05 | Daily | 243,410
Recordkeeping—Small mines | 169,035 | .0333 | Daily | 5,629
Inspection Time—Large mines | 6,146,025 | .05 | Daily | 307,301
Recordkeeping—Large mines | 501,790 | .0333 | Daily | 16,710
Examination of Workplaces—30 CFR 56/57.18002:
Inspection Time—Small mines | 2,434,104 | .1666 | Daily | 405,522
Recordkeeping—Small mines | 2,434,104 | .0333 | Daily | 81,056
Inspection Time—Large mines | 819,470 | .1666 | Daily | 136,524
Recordkeeping—Large mines | 819,470 | .0333 | Daily | 27,288
Total | 18,203,818 |  |  | 1,224,406

Total Annualized Capital/Startup Costs: $0.

Total Annual Costs (operating/maintaining systems or purchasing services): $0.

Description: 30 CFR 56/57.13015; 13030; 14100; and 56/57.18002 require equipment operators to inspect equipment, machinery, and tools that are to be used during a shift for safety defects before the equipment is placed in operation. Reports of uncorrected defects are required to be recorded by the mine operator and retained for MSHA review until the defect has been corrected.

Ira Mills,
Departmental Clearance Officer.

[FR Doc. 01-19610 Filed 8-3-01; 8:45 am]

BILLING CODE 4510-43-M